DEPARTMENT OF TRANSPORTATION

Federal Aviation Administration

14 CFR Part 71

[Docket No. FAA-2012-0129; Airspace Docket No. 12-AWA-3]

RIN 2120-AA66

Revocation and Modification of Multiple Domestic, Alaskan, and Hawaiian Compulsory Reporting Points

AGENCY: Federal Aviation Administration (FAA), DOT.

ACTION: Final rule.

SUMMARY: This action removes eighteen Domestic and Alaskan compulsory reporting points defined by navigation aids previously decommissioned, removed, or shutdown and taken out of the FAA aeronautical database as compulsory reporting points. Additionally, this action also requires changes to the name of four navigation aids that define associated compulsory reporting points. The FAA is removing the outdated Part 71 compulsory reporting points since they are no longer valid, and amending those Part 71 compulsory reporting points that require name changes, to be consistent with the FAA's aeronautical database.

DATES: Effective date 0901 UTC July 10, 2012. The Director of the Federal Register approves this incorporation by reference action under 1 CFR part 51, subject to the annual revision of FAA Order 7400.9 and publication of conforming amendments.

FOR FURTHER INFORMATION CONTACT: Colby Abbott, Airspace, Regulations and ATC Procedures Group, Office of Airspace Services, Federal Aviation Administration, 800 Independence Avenue SW., Washington, DC 20591; telephone: (202) 267-8783.

SUPPLEMENTARY INFORMATION:

History

After a recent review of aeronautical data, the National Flight Data Center (NFDC) identified eighteen compulsory reporting points, defined by navigation aids, listed in FAA Order (FAAO) 7400.9, Airspace Designations and Reporting Points that are no longer valid and are not contained in the FAA's aeronautical database as reporting points. The reporting points included five Domestic Reporting Points, ten Alaskan Low Altitude Reporting Points, and three Alaskan High Altitude Reporting Points. Additionally, NFDC identified four other reporting points that require updates to match the current navigation aid name that defines the reporting point, as reflected in the aeronautical database. These include two Alaskan Low Altitude Reporting Points, one Alaskan High Altitude Reporting Point, and one Hawaiian Reporting Point.

No regulatory actions were taken when the navigation aids, which define these compulsory reporting points, were removed or renamed in the FAA aeronautical database. To overcome confusion and remove flight safety issues associated with publishing outdated compulsory reporting point information, the FAA is removing eighteen reporting points, from Part 71, and FAAO 7400.9. Also, the FAA is updating the names of four reporting points, in Part 71, and FAAO 7400.9. Accordingly, since this is an administrative change and simply brings current regulations in concert with the FAA's aeronautical database, notice and public procedures under Title 5 U.S.C. 553(b) are unnecessary.

The Rule

The FAA amends Title 14 Code of Federal Regulations (14 CFR) part 71 by removing five Domestic Reporting Points, ten Alaskan Low Altitude Reporting Points, and three Alaskan High Altitude Reporting Points. Specifically, the FAA removes Blue Ridge, TX, Gunnison, CO, Lewistown, MT, and Ukiah, CA, Domestic Low Altitude Reporting Points; the Ramey, PR, listed in Other Domestic Reporting Points; Adak NDB, AK, Barter Island NDB, AK, Farewell NDB, AK, Hinchinbrook NDB, AK, Julius NDB, AK, Oliktok NDB, AK, Puntilla Lake NDB, AK, Shemya NDB, AK, Umiat NDB, AK, and Wessels NDB, AK, Alaskan Low Altitude Reporting Points; and Adak NDB, AK, Barter Island NDB, AK, and Prudhoe Bay NDB, AK, Alaskan High Altitude Reporting Points.

This action also amends 14 CFR part 71 by updating the names of two Alaskan low altitude reporting points, one Alaskan high altitude reporting point, and one Hawaiian reporting point to match the navigation aid names that define the reporting points. Specifically, the FAA amends “Chandalar NDB, AK,” to “Chandalar Lake, AK,” and “Glenallen NDB, AK,” to “Glennallen, AK,” in the Alaskan Low Altitude Reporting Points; “St Paul NDB, AK,” to “St Paul Island, AK,” in the Alaskan High Altitude Reporting Points; and “Upolu, HI,” to “Upolu Point, HI,” in the Hawaiian Reporting Points.

Domestic Low Altitude Reporting Points, Other Domestic Reporting Points designated at all altitudes, Alaskan Low Altitude Reporting Points, Alaskan High Altitude Reporting Points, and Hawaiian Reporting Points are listed in paragraph 7001, 7003, 7004, 7005 and 7006, respectively of FAA Order 7400.9V dated August 9, 2011, and effective September 15, 2011, which is incorporated by reference in 14 CFR 71.1. The reporting points listed in this document will be revised subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it removes Domestic, Alaskan, and Hawaiian Reporting Points contained in the NAS.

Environmental Review

The FAA has determined that this action qualifies for categorical exclusion under the National Environmental Policy Act in accordance with 311a, FAA Order 1050.1E, “Environmental Impacts: Policies and Procedures.” This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9V, Airspace Designations and Reporting Points, signed August 9, 2011, and effective September 15, 2011, is amended as follows:

Paragraph 7001 Domestic low altitude reporting points.

* * * * *

Blue Ridge, TX [Removed]

* * * * *

Gunnison, CO [Removed]

* * * * *

Lewistown, MT [Removed]

* * * * *

Ukiah, CA [Removed]

* * * * *

Paragraph 7003 Other domestic reporting points.

* * * * *

Ramey, PR [Removed]

* * * * *

Paragraph 7004 Alaskan low altitude reporting points.

Adak NDB, AK [Removed]

* * * * *

Barter Island NDB, AK [Removed]

* * * * *

Chandalar NDB, AK [Removed]

Chandalar Lake, AK [New]

* * * * *

Farewell NDB, AK [Removed]

* * * * *

Glenallen NDB, AK [Removed]

Glennallen, AK [New]

* * * * *

Hinchinbrook NDB, AK [Removed]

* * * * *

Julius NDB, AK [Removed]

* * * * *

Oliktok NDB, AK [Removed]

* * * * *

Puntilla Lake NDB, AK [Removed]

* * * * *

Shemya NDB, AK [Removed]

* * * * *

Umiat NDB, AK [Removed]

* * * * *

Wessels NDB, AK [Removed]

* * * * *

Paragraph 7005 Alaskan high altitude reporting points.

Adak NDB, AK [Removed]

* * * * *

Barter Island NDB, AK [Removed]

* * * * *

Prudhoe Bay NDB, AK [Removed]

* * * * *

St Paul NDB, AK [Removed]

St Paul Island, AK [New]

* * * * *

Paragraph 7006 Hawaiian reporting points.

* * * * *

Upolu, HI [Removed]

Upolu Point, HI [New]

Issued in Washington, DC, June 28, 2012.
Gary A. Norek,
Acting Manager, Airspace, Regulations and ATC Procedures Group.

[FR Doc. 2012-16698 Filed 7-9-12; 8:45 am]

BILLING CODE 4910-13-P